DEPARTMENT OF THE TREASURY

Submission for OMB Review; Comment Request

July 25, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before September 3, 2003 to be assured of consideration.

Internal Revenue Service (IRS)

OMB Number: 1545-0217.

Form Number: IRS Form 5735 and Schedule P.

Type of Review: Revision.

Title: Possessions Corporation Tax Credit (Under Sections 936 and 30A) (5735); and Allocation of Income and Expenses Under Section 936(h)(5) (Schedule P).

Description: Form 5735 is used to compute the possessions tax credit under sections 936 & 30A. Schedule P is used by corporations that elect to share the income or expenses with their affiliates. Each form provides the IRS with information to determine if the corporations have correctly computed the tax credit and the cost-sharing or profit-split method.

Respondents: Business or other for-profit.

Estimated Number of Respondents/Recordkeepers: 1,371.

Estimated Burden Hours Per Respondent/Recordkeeper:

| Form 5735 | Schedule P
Recordkeeping | 20 hr., 5 min. | 9 hr., 48 min.
Learning about the law or the form | 4 hr., 48 min. | 1 hr., 27 min.
Preparing the form | 7 hr., 12 min. | 2 hr., 36 min.
Copying, assembling, and sending the form to the IRS | 32 min. | 16 min.

Frequency of Response: Annually.

Estimated Total Reporting/Recordkeeping Burden: 33,818 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Mary A. Able,
Departmental Reports Management Officer.

[FR Doc. 03-19707 Filed 8-1-03; 8:45 am]

BILLING CODE 4830-01-P